FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 15, 2016.

A. Federal Reserve Bank of Atlanta (Chapelle Davis, Assistant Vice President) 1000 Peachtree Street NE., Atlanta, Georgia 30309. Comments can also be sent electronically to Applications.Comments@atl.frb.org:

1. William Stuart Perry, Howard Steven Perry, and Edmond Lewis Perry, all of Nashville, Georgia, and Sara Amelia Perry Parkerson, Greensboro, Georgia; to retain voting shares of The Nashville Holding Company, and thereby indirectly retain voting shares of The Citizens Bank, both in Nashville, Georgia.

B. Federal Reserve Bank of Minneapolis (Jacquelyn K. Brunmeier, Assistant Vice President) 90 Hennepin Avenue, Minneapolis, Minnesota 55480-0291:

1. James Poepl and Jacob Poepl, both of Hastings, Minnesota, and Matthew Poepl, St. Paul, Minnesota, as members of the Poepl Family Group; to acquire additional voting shares of Vermillion Bancshares, Inc., and thereby indirectly acquire additional voting shares of Vermillion State Bank, both in Vermillion, Minnesota.

C. Federal Reserve Bank of Kansas City (Dennis Denney, Assistant Vice President) 1 Memorial Drive, Kansas City, Missouri 64198-0001:

1. Sharon Hall, Coon Rapids, Minnesota; Reed Anderson, Columbus, Nebraska; The Page Family Living Trust dated 03-15-06 and Lucia Page, trustee, Magnolia, Texas; Gina Page, Phoenix, Arizona; Lynsey Page, Co-Trustee of the Lynsey Page Trust UA 08-15-2007; Emily Page, Co-Trustee of the Emily Page Trust UA 12-21-2009; Caroline Page, Co-Trustee of the Caroline Page Trust UA 05-26-2011; and Brian Page, Co-Trustee of the Brian Page Trust UA 07-01-2011; all as members of the Page Family Group; to retain voting shares of Page Bancshares, Inc., Liberty, Missouri, and thereby indirectly retain voting shares of Pony Express Bank, Braymer, Missouri.

In connection with this application, the Robin D. Page Trust dated 03-20-06 and Robin Page, trustee, Liberty, Missouri, also have applied to join the Page Family Group, and acquire voting shares of Page Bancshares, Inc., Liberty, Missouri, and thereby indirectly retain voting shares of Pony Express Bank, Braymer, Missouri.

Board of Governors of the Federal Reserve System, March 28, 2016.
Michael J. Lewandowski,
Associate Secretary of the Board.

[FR Doc. 2016-07278 Filed 3-30-16; 8:45 am]

BILLING CODE 6210-01-P